NUCLEAR REGULATORY COMMISSION

Advisory Committee on Reactor Safeguards; Meeting Notice

In accordance with the purposes of sections 29 and 182b. of the Atomic Energy Act (42 U.S.C. 2039, 2232b), the Advisory Committee on Reactor Safeguards will hold a meeting on February 1-3, 2001, in Conference Room T-2B3, 11545 Rockville Pike, Rockville, Maryland. The date of this meeting was previously published in the Federal Register on Friday, November 17, 2000 (65 FR 69578).

Thursday, February 1, 2001

8:30 A.M.-8:35 A.M.: Opening Remarks by the ACRS Chairman (Open)—The ACRS Chairman will make opening remarks regarding the conduct of the meeting.

8:35 A.M.-10:15 A.M.: Treatment of Uncertainties in the Elements of the PTS Technical Basis Reevaluation Project (Open)—The Committee will hear presentations by and hold discussions with representatives of the NRC staff regarding treatment of uncertainties in the elements of the Pressurized Thermal Shock (PTS) Reevaluation Project.

10:30 A.M.-12 Noon: Siemens S-RELAP5 Appendix K Small-Break LOCA Code (Open/Closed)—The Committee will hear presentations by and hold discussions with representatives of the NRC staff and Siemens Power Corporation regarding the Siemens S-RELAP5 Appendix K Small-Break Loss-of-Coolant Accident (LOCA) Code and the associated NRC staff Safety Evaluation Report. [Note: A portion of this session may be closed to discuss Siemens Power Corporation proprietary information applicable to this matter.]

1 P.M.-2:30 P.M.: Proposed ANS Standard on External-Events PRA (Open)—The Committee will hear presentations by and hold discussions with representatives of the American Nuclear Society (ANS) regarding the proposed ANS Standard on external-events PRA.

2:45 P.M.-4 P.M.: Reprioritization of Generic Safety Issue-152, “Design Basis for Valves that Might be Subjected to Significant Blowdown Loads” (Open)—The Committee will hear presentations by and hold discussions with representatives of the NRC staff regarding reprioritization of Generic Safety Issue-152 and the reasons therefor, and related matters.

4 P.M.-5 P.M.: Break and Preparation of Draft ACRS Reports (Open)—Cognizant ACRS members will prepare draft reports, as needed, for consideration by the full Committee.

5 P.M.-7 P.M.: Discussion of Proposed ACRS Reports (Open)—The Committee will discuss proposed ACRS reports on matters considered during this meeting.

Friday, February 2, 2001

8:30 A.M.-8:35 A.M.: Opening Remarks by the ACRS Chairman (Open)—The ACRS Chairman will make opening remarks regarding the conduct of the meeting.

8:35 A.M.-10 A.M.: Regulatory Effectiveness of the ATWS Rule (Open)—The Committee will hear presentations by and hold discussions with representatives of the NRC staff regarding the staff's assessment of the regulatory effectiveness of the Anticipated Transients Without Scram (ATWS) Rule.

10:15 A.M.-11:45 A.M.: Overview of Mixed Oxide Fuel Fabrication Facility (Open)—The Committee will hear presentations by and hold discussions with representatives of the Department of Energy (DOE) and the NRC staff regarding the proposed Mixed Oxide Fuel Fabrication Facility to be constructed at the DOE's Savannah River Plant site.

1 P.M.-2 P.M.: Meeting with the NRC Chairman (Open)—The Committee will meet with the NRC Chairman Meserve to discuss items of mutual interest.

2:15 P.M.-3:15 P.M.: NRC Safety Research Program (Open)—The Committee will discuss the annual ACRS report to the Commission on the NRC Safety Research Program.

3:15 P.M.-3:45P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

3:45 P.M.-4 P.M.: Reconciliation of ACRS Comments and Recommendations (Open)—The Committee will discuss the responses from the NRC Executive Director for Operations (EDO) to comments and recommendations included in recent ACRS reports and letters. The EDO responses are expected to be made available to the Committee prior to the meeting.

4 P.M.-5 P.M.: Break and Preparation of Draft ACRS Reports (Open)—Cognizant ACRS members will prepare draft reports, as needed, for consideration by the full Committee.

5 P.M.-7 P.M.: Discussion of Proposed ACRS Reports (Open)—The Committee will discuss proposed ACRS reports.

Saturday, February 3, 2001

8:30 A.M.-12:30 P.M.: Proposed ACRS Reports (Open)—The Committee will continue its discussion of proposed ACRS reports.

12:30 P.M.-1 P.M.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

In accordance with Subsection 10(d) P.L. 92-463, I have determined that it is necessary to close a portion of this meeting noted above to discuss proprietary information per 5 U.S.C. 552b(c)(4).

Further information regarding topics to be discussed, whether the meeting has been canceled or rescheduled, the Chairman's ruling on requests for the opportunity to present oral statements, and the time allotted therefor can be obtained by contacting Mr. James E. Lyons (telephone 301-415-7371), between 7:30 a.m. and 4:l5 p.m., EST.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment facilities that they use to establish the videoteleconferencing link. The availability of videoteleconferencing services is not guaranteed.

Dated: December 20, 2000.
Andrew L. Bates,
Advisory Committee Management Officer.

[FR Doc. 00-33010 Filed 12-26-00; 8:45 am]

BILLING CODE 7590-01-P